DEPARTMENT OF TRANSPORTATION

Federal Railroad Administration

49 CFR Part 219

[Docket No. FRA-2001-11213, Notice No. 16]

Alcohol and Drug Testing: Determination of Minimum Random Testing Rates for 2013

AGENCY: Federal Railroad Administration (FRA), DOT.

ACTION: Notice of determination.

According to data from FRA's Management Information System, the rail industry's random drug testing positive rate has remained below 1.0 percent for the last two years. The Federal Railroad Administrator (Administrator) has therefore determined that the minimum annual random drug testing rate for the period January 1, 2013, through December 31, 2013, will remain at 25 percent of covered railroad employees. In addition, because the industry-wide random alcohol testing violation rate has remained below 0.5 percent for the last two years, the Administrator has determined that the minimum random alcohol testing rate will remain at 10 percent of covered railroad employees for the period January 1, 2013, through December 31, 2013. Railroads remain free, as always, to conduct random testing at higher rates.

DATES: This notice of determination is effective December 26, 2012.

FOR FURTHER INFORMATION CONTACT: Elizabeth Gross, Trial Attorney, Office of Chief Counsel, Mail Stop 10, Federal Railroad Administration, 1200 New Jersey Avenue SE., Washington, DC 20590, (telephone 202-493-1342); or Kathy Schnakenberg, FRA Alcohol/Drug Program Specialist, (telephone 719-633-8955).

Issued in Washington, DC on December 18, 2012.
Karen J. Hedlund,
Deputy Administrator.

[FR Doc. 2012-30999 Filed 12-21-12; 4:15 pm]

BILLING CODE 4910-06-P